INTERNATIONAL TRADE COMMISSION

[Investigation No. 337-TA-1424]

Certain Flash-Spun Nonwoven Materials and Products Containing Same; Notice of Commission Determination Not To Review an Initial Determination Granting Complainants' Unopposed Motion To Amend the Complaint and Notice of Investigation

AGENCY: U.S. International Trade Commission.

ACTION: Notice.

SUMMARY: Notice is hereby given that the U.S. International Trade Commission has determined not to review an initial determination (“ID”) (Order No. 25) of the presiding administrative law judge (“ALJ”) issued in the above-captioned investigation granting complainants' unopposed motion to amend the complaint and notice of investigation (“NOI”) to add allegations of trade secret misappropriation and wrongful use and exploitation of proprietary information against respondents Impak Corporation (“Impak”) and Jiangsu Tubo New Material Co., Ltd. (“Jiangsu Tubo”); add TOBO Group as a new respondent; update the addresses for Jiangsu Tubo and Hangzhou Several Sets of Electronic Commerce Co., Ltd. (“JGT Live”) to reflect where service was effected; and make certain non-substantive amendments to the complaint.

FOR FURTHER INFORMATION CONTACT: Richard P. Hadorn, Esq., Office of the General Counsel, U.S. International Trade Commission, 500 E Street SW, Washington, DC 20436, telephone (202) 205-3179. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on November 21, 2024, based on a complaint filed by DuPont de Nemours, Inc., DuPont Safety & Construction, Inc., and DuPont Specialty Products USA, LLC (collectively, “DuPont”), all of Wilmington, Delaware. 89 FR 92159-60 (Nov. 21, 2024). The complaint, as supplemented, alleges violations of section 337 of the Tariff Act of 1930, as amended, 19 U.S.C. 1337 (“section 337”), based on the importation into the United States, the sale for importation, and the sale within the United States after importation of certain flash-spun nonwoven materials and products containing the same by reason of (i) misappropriation of trade secrets and wrongful use and exploitation of stolen confidential and proprietary information, the threat or effect of which is to destroy or substantially injure an industry in the United States, and (ii) infringement of U.S. Trademark Registration Nos. 817,194; 818,688; 818,737; and 7,370,316. Id. at 92159. The complaint further alleges that a domestic industry exists. Id.

The NOI names 18 respondents: (1) Xiamen Dangs New-Materials Co., Ltd. AKA Dawnsens New Materials Co., Ltd. of Xiamen, Fujian, China; Beijing Dangsheng Technology Co., Ltd. of Beijing, Beijing, China; Xiamen Dangsheng Technology Co., Ltd. of Xiamen, Fujian, China (collectively, “Dangs”); (2) Kingwills New Material Technology Co., Ltd. of Nantong, Jiangsu, China; Zhejiang Qingyun New Material Co., Ltd. of Jiaxing, Zhejiang, China; Jiangsu Qingyun New Materials Co., Ltd. AKA Jiangsu Kingwills New Materials Co., Ltd. of Nantong, Jiangsu, China; Shanghai Qingyun New Material Technology Co., Ltd. of Shanghai, Shanghai, China; and Kingwills International Ltd. of Kowloon, Hong Kong, China (collectively, “Kingwills”); (3) Harbourpoint Innovations Inc. (“Harbourpoint”) of Raleigh, North Carolina; (4) Impak of Los Angeles, California; (5) Shenzhen Zhengming Science and Technology Co., Ltd. (“Shenzhen Zhengming”) of Huizhou, Guangdong, China; (6) Weifang Konzer Safety Protective Equipment Co., Ltd. of Anqiu, Shandong, China; (7) Jiangsu Tubo of Kunshan, Jiangsu, China; (8) Emedia Group. Inc. (“Emedia”) of Greenville, South Carolina; (9) endur-tec, LLC (“endur-tec”) of Anderson, South Carolina; (10) JGT Live of Yuhang, Hangzhou, China; (11) Hangzhou Qiao Shell Digital Technology Co., Ltd. of Yuhang, Hangzhou, China; and (12) Zhenping County Weihe Commerce and Trade Co., Ltd. of Zhenping, Nanyang, China. Id. at 92159-60. The Office of Unfair Import Investigations (“OUII”) is also named as a party to this investigation. Id. at 92160.

On February 21, 2025, the Commission terminated the investigation as to Harbourpoint, Shenzhen Zhengming, Emedia, and endur-tec based on consent orders. Order Nos. 10 (Jan. 22, 2025) (as to Harbourpoint), 11 (Jan. 22, 2025) (as to Shenzhen Zhengming), 12 (Jan. 22, 2025) (as to Emedia and endur-tec), unreviewed by Comm'n Notice (Feb. 21, 2025).

On March 27, 2025, DuPont filed a motion for leave to amend the complaint and NOI. First, the motion seeks to add allegations of (i) trade secret misappropriation and (ii) wrongful use and exploitation of proprietary information against Impak and Jiangsu Tubo. Second, the motion seeks to add TOBO Group of Shanghai, China as a new respondent. Third, the motion seeks to update the addresses for Jiangsu Tubo and JGT Live to reflect where service was effected. Fourth, the motion seeks to make certain amendments to the complaint to reflect (i) “DuPont's supplementation [to the complaint] on October 29, 2024 (submitting Ex. 92; referencing Ex. 92 in paragraph 7, correcting a few citations'),” (ii) “minor typographical corrections to addresses of certain [r]espondents,” and (iii) “updating counsel of record.” On April 7, 2025, Kingwills filed a response stating that “[w]hile Kingwills disputes the merits of DuPont's proposed allegations implicating Kingwills' products, Kingwills does not oppose the proposed amendments.” That same day, OUII filed a response in support of the motion. No other responses to the motion were filed.

On April 22, 2025, the ALJ issued the subject ID (Order No. 25) granting the unopposed motion. The ID finds that, in accordance with Commission Rule 210.14(b) (19 CFR 210.14(b)), good cause exists for DuPont's amendments to the complaint and NOI and that neither the parties nor the public interest will be prejudiced. The ID notes that the new allegations against Impak and Jiangsu Tubo and adding TOBO Group as a new respondent are based on facts that “were not available to DuPont until recently” and other “recently obtained evidence”; that updating the addresses for Jiangsu Tubo and JGT Live “will ensure a complete and accurate record”; and that DuPont's remaining amendments to the complaint are non-substantive, unopposed, and non-prejudicial. No petitions for review of the subject ID were filed.

The Commission has determined not to review the subject ID. The complaint and NOI are amended to (i) add allegations of trade secret misappropriation and wrongful use and exploitation of proprietary information against Impak and Jiangsu Tubo, (ii) add TOBO Group as a new respondent, and (iii) update the addresses for Jiangsu Tubo and JGT Live to reflect where service was effected. The complaint is also amended to reflect “DuPont's supplementation on October 29, 2024 (submitting Ex. 92; referencing Ex. 92 in paragraph 7, correcting a few citations)” and DuPont's requested “minor typographical corrections to addresses of certain [r]espondents” and “updating [of] counsel of record.”

The Commission vote for this determination took place on May 13, 2025.

The authority for the Commission's determination is contained in section 337 of the Tariff Act of 1930, as amended (19 U.S.C. 1337), and in part 210 of the Commission's Rules of Practice and Procedure (19 CFR part 210).

By order of the Commission.
Issued: May 14, 2025.
Lisa Barton,
Secretary to the Commission.

[FR Doc. 2025-08887 Filed 5-16-25; 8:45 am]

BILLING CODE 7020-02-P